FEDERAL COMMUNICATIONS COMMISSION

47 CFR Parts 51, 61, and 69

[WC Docket No: 10-90; CC Docket No. 01-92]

Parties Asked To Refresh the Record on Intercarrier Compensation Reform Related to the Network Edge, Tandem Switching and Transport, and Transit

AGENCY: Federal Communications Commission.

ACTION: Proposed rule.

SUMMARY: The Commission invites interested parties to update the record on issues raised by the Commission in the 2011 Intercarrier Compensation (ICC) Transformation Further Notice of Proposed Rulemaking (FNPRM) regarding the network edge for traffic that interconnects with the Public Switched Telephone Network, tandem switching and transport, and transit (the non-access traffic functional equivalent of tandem switching and transport). The Commission seeks updated comment in light of regulatory and marketplace developments that have occurred since the 2011 ICC Transformation FNPRM, including the transition of certain terminating traffic to bill-and-keep, and implementation of the adopted mandate to move all traffic to bill-and-keep. The Commission also seeks comment on other developments related to those issues that should be considered in the context of further ICC reform.

DATES: The FCC should receive comments by October 26, 2017; reply comments should be received November 13, 2017.

ADDRESSES: Federal Communications Commission at 445 12th Street SW., Room TW-A325, Washington, DC 20554.

FOR FURTHER INFORMATION CONTACT: Joseph Price, Pricing Policy Division, Wireline Competition Bureau at (202) 418-1423 or via email at Joseph.Price@fcc.gov.

SUPPLEMENTARY INFORMATION: This is a summary of the Commission's document WC Docket 10-90, CC Docket No. 01-92; DA 17-863, released on September 8, 2017. This document does not contain information collection(s) subject to the Paperwork Reduction Act of 1995 (PRA), Public Law 104-13. In addition, therefore, it does not contain any new or modified “information collection burden[s] for small business concerns with fewer than 25 employees,” pursuant to the Small Business Paperwork Relief Act of 2002. The full text of this document may be downloaded at the following Internet address: https://apps.fcc.gov/edocs_public/attachmatch/DA-17-863A1.doc.

The complete text maybe purchased from Best Copy and Printing, Inc., 445 12th Street SW., Room CY-B402, Washington, DC 20554. To request alternative formats, for persons with disabilities (e.g. accessible format documents, sign language, interpreters, CARTS, etc.), send an email to fcc504@fcc.gov or call the Commission's Consumer and Governmental Affairs Bureau at (202) 418-0530 or (202) 418-0432 (TTY).

Interested parties may file comments and reply comments on or before the dates established by Federal Register publication. Comments may be filed using the Commission's Electronic Comment Filing System (ECFS). See Electronic Filing of Documents in Rulemaking Proceedings, 63 FR 24121 (1998).

• Electronic Filers: Comments may be filed electronically using the Internet by accessing the ECFS: https://www.fcc.gov/ecfs/.

• Paper Filers: Parties who choose to file by paper must file an original and one copy of each filing. If more than one docket or rulemaking number appears in the caption of this proceeding, filers must submit two additional copies for each additional docket or rulemaking number.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

People with Disabilities: To request materials in accessible formats for people with disabilities (Braille, large print, electronic files, audio format), send an email to fcc504@fcc.gov or call the Consumer & Governmental Affairs Bureau at (202) 418-0530 (voice) or (202) 418-0432 (tty).

The proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Pamela S. Arluk,
Chief, Pricing Policy Division.

[FR Doc. 2017-20353 Filed 9-25-17; 8:45 am]

BILLING CODE 6712-01-P